DEPARTMENT OF COMMERCE

National Telecommunications and Information Administration

Public Wireless Supply Chain Innovation Fund Listening Session #2

AGENCY: National Telecommunications and Information Administration, Department of Commerce.

ACTION: Notice of open meeting.

SUMMARY: The National Telecommunications and Information Administration (NTIA) will convene its second virtual industry roundtable listening session on the Public Wireless Supply Chain Innovation Fund (“Innovation Fund”). The listening session will discuss Innovation Fund progress to date and solicit stakeholder input to help inform future funding opportunities.

DATES: The listening session will be held on September 26, 2024, from 10 a.m. to 12:30 p.m., eastern daylight time.

ADDRESSES: The session will be held virtually, with online slide share and dial-in information to be posted at www.ntia.gov/program/innovation-fund.

FOR FURTHER INFORMATION CONTACT: Please direct questions regarding this Notice to Richard Upchurch at innovationfund@ntia.gov, indicating “Innovation Fund Listening Session #2” in the subject line, or if by mail, addressed to National Telecommunications and Information Administration, U.S. Department of Commerce, 1401 Constitution Avenue NW, Washington, DC 20230; telephone: 202-482-3806. Please direct media inquiries to NTIA's Office of Public Affairs, press@ntia.gov.

SUPPLEMENTARY INFORMATION:

Background and Authority: On August 9, 2022, President Biden signed the CHIPS and Science Act of 2022 into law, appropriating $1.5 billion for the Public Wireless Supply Chain Innovation Fund to support the promotion and deployment of open, interoperable, and standards-based radio access networks (RAN) (Pub. L. 117-167, Div. A, sec. 106, 136 Stat. 1392). The Innovation Fund is authorized under section 9202(a)(1) of the William M. (Mac) Thornberry National Defense Authorization Act for Fiscal Year 2021 (Pub. L. 116-283; 47 U.S.C. 906(a)(1)). This historic investment aims to support U.S. leadership in the global telecommunications ecosystem, foster competition, lower costs for consumers and network operators, and strengthen our supply chain. The Secretary of Commerce, acting through the NTIA Administrator, shall establish criteria for grants awarded to support the following:

(i) Promoting and deploying technology, including software, hardware, and microprocessing technology, that will enhance competitiveness in the fifth-generation (commonly known as “5G”) and successor wireless technology supply chains that use open and interoperable interface radio access networks.

(ii) Accelerating commercial deployments of open interface standards-based compatible, interoperable equipment, such as equipment developed pursuant to the standards set forth by organizations such as the O-RAN Alliance, the Telecom Infra Project, 3GPP, the Open-RAN Software Community, or any successor organizations.

(iii) Promoting and deploying compatibility of new 5G equipment with future open standards-based, interoperable equipment.

(iv) Managing integration of multi-vendor network environments.

(v) Identifying objective criteria to define equipment as compliant with open standards for multi-vendor network equipment interoperability.

(vi) Promoting and deploying security features enhancing the integrity and availability of equipment in multi-vendor networks.

(vii) Promoting and deploying network function virtualization to facilitate multi-vendor interoperability and a more diverse vendor market.

In accordance with the above statute, NTIA issued two Notice of Funding Opportunities (NOFOs) based on stakeholder feedback.

NTIA's first NOFO was released in August 2023, which awarded more than $140 million to 17 grantees. This first funding opportunity focused on advancing two key areas:

1. Testing and Evaluation (T&E): Projects aimed at expanding industry-accepted T&E, within the United States and its territories and possessions, to test, evaluate, facilitate, and assess, the interoperability, performance, and/or security of open and interoperable, standards-based 5G radio access networks.

2. Research and Design (R&D) into Testing Methods: R&D projects aimed at addressing needs not currently met by industry-accepted tests and best practices. These projects fall into two categories: (1) developing new and emerging performance indicators and/or (2) developing enhanced methods for existing test criteria that make material improvements on current methods needed to assess interoperability, performance, and/or security on these networks and their component parts.

NTIA's second NOFO was released in May 2024 with up to $420 million allocated for awards. NTIA anticipates beginning to award grants this fall. This second NOFO focuses on:

1. Open Radio Unit (RU) Commercialization: Projects aimed at accelerating the development of open RU products to the point where they meet carrier needs and are ready for commercial trials. NTIA seeks to accelerate mobile network operator (MNO) adoption by requiring suppliers and MNOs to partner on the development of open RU products that meet operators' performance and feature requirements.

2. Open Radio Unit (RU) Innovation: Projects aimed at improving the overall performance and capabilities of open RUs through targeted research and development. NTIA seeks to drive RU innovation that results in advanced performance and features—in turn accelerating the adoption of open and interoperable networks.

Considering the research focus areas undertaken to date, NTIA invites input from all interested stakeholders—including private industry, academia, civil society, and other experts—on the following topics, among others, to help inform the future of the Innovation Fund:

(a) Ongoing barriers to Open RAN adoption, including for example, technology gaps and market challenges, among others, and opportunities to address such barriers;

(b) Anticipated use cases for open and interoperable standards-based networks in public and private 5G networks; and

(c) Desired outcomes from industry, including relevant trials, deployment models, or proofs of concept.

Time and Date: NTIA will convene the public listening session on September 26, 2024, from 10 a.m. to 12:30 p.m. eastern daylight time. The exact time of the meeting is subject to change. Please refer to NTIA's website, www.ntia.gov/program/innovation-fund for the most current information.

Place: The meeting will be held virtually, with online slide share and dial-in information to be posted at https://www.ntia.gov/program/innovation-fund. Please refer to NTIA's website, for the most current information.

Other Information: The meeting is open to the public and the press on a first-come, first-served basis. The virtual meeting is accessible to people with disabilities. Individuals requiring accommodations such as real-time captioning, sign language interpretation or other ancillary aids should notify the Department at InnovationFund@ntia.gov at least seven (7) business days prior to the meeting. Access details for the meeting are subject to change. Please refer to NTIA's website, https://www.ntia.gov/program/innovation-fund for the most current information.

Stephanie Weiner,
Chief Counsel, National Telecommunications and Information Administration.

[FR Doc. 2024-20135 Filed 9-5-24; 8:45 am]

BILLING CODE 3510-60-P